DEPARTMENT OF THE INTERIOR

Bureau of Land Management

[ES-032-0-1430-EU]

Notice of Availability of the Wisconsin Draft Resource Management Plan Amendment/Environmental Assessment

AGENCY: Bureau of Land Management, Milwaukee Field Office, Department of the Interior.

ACTION: Notice of availability.

SUMMARY: Notice is hereby given that the Bureau of Land Management (BLM), Milwaukee Field Office, has released a Draft Resource Management Plan Amendment (RMPA) and Environmental Assessment (EA), to assess the future disposition of 12 public domain parcels in the State of Wisconsin. The parcels are located in Bayfield, Door, Langlade, Oneida, Vilas, and Waupaca Counties. Four of the tracts contain historic lighthouses declared excess by the U.S. Coast Guard and the remaining parcels are small, isolated tracts located in northern Wisconsin.

The planning effort has followed the procedures set forth in 43 CFR subpart 1600. The EA has been prepared under 40 CFR part 1500, et seq.

The public is invited to comment on the Draft RMPA/EA by providing substantive input relating to the planning issues and accuracy of the scientific data used in the plan. Input stating agreement or disagreement with a particular alternative is not considered substantive under BLM's planning regulations or the National Environmental Policy Act.

DATES: The comment period commences with the publication of this notice. Comments must be postmarked no later than April 25, 2000.

ADDRESSES: Written comments should be addressed to the Field Manager, Milwaukee Field Office, P.O. Box 631, Milwaukee, Wisconsin 53201-0631. Submit electronic comments and other data to Howard_Levine@es.blm.gov.

FOR FURTHER INFORMATION CONTACT: Howard Levine, Planning and Environmental Coordinator, 414-297-4463.

SUPPLEMENTARY INFORMATION: The Draft RMPA/EA contains three alternatives: (1) transfer of the parcels to other Federal, State or local agencies, non-profit groups, Native American Tribes or private land owners; (2) no action, in which BLM would retain the tracts and manage them on a custodial basis; and (3) retention by BLM which would actively manage the properties under multiple use and sustained yield principles.

The Draft RMPA identifies disposal criteria that will be consulted if Alternative 1 is chosen and when BLM reviews site-specific proposals to acquire the properties. The criteria serve two purposes. First, they prescribe the management and resource objectives for each property based on the planning issues developed during the scoping period. Second, the criteria establish the procedures, such as consultations or studies, that must be completed prior to transfer of any tract. These consultations and studies, coupled with specific development proposals, will be used to analyze environmental impacts for the properties.

BLM may hold public workshops or open houses on the Draft RMPA, if public interest warrants holding them.

Complete records of all phases of the planning process will be available at the Milwaukee Field Office and are available upon request.

Dated: February 16, 2000.
James W. Dryden,
Field Manager.

[FR Doc. 00-4261 Filed 2-24-00; 8:45 am]

BILLING CODE 4310-PN-P